DEPARTMENT OF ENERGY

Federal Energy Regulatory Commission

[Project No. 14698-000]

Shenango Dam Hydroelectric Company, LLC; Notice of Preliminary Permit Application Accepted for Filing and Soliciting Comments, Motions To Intervene, and Competing Applications

On August 11, 2015, Shenango Dam Hydroelectric Company, LLC, filed an application for a preliminary permit, pursuant to section 4(f) of the Federal Power Act (FPA), proposing to study the feasibility of hydropower at the U.S. Army Corps of Engineers' (Corps) Shenango dam located on the Shenango River, near the Borough of Sharpsburg, Mercer County, Pennsylvania. The sole purpose of a preliminary permit, if issued, is to grant the permit holder priority to file a license application during the permit term. A preliminary permit does not authorize the permit holder to perform any land-disturbing activities or otherwise enter upon lands or waters owned by others without the owners' express permission.

The proposed Shenango Hydroelectric Project would consist of the following: (1) Five bulb turbines/generators having a total installed capacity of 2,500 kilowatts to be installed on the upstream face of the existing dam in five of the seven discharge conduits; (2) a proposed steel equipment building 11 feet wide by 40 feet long housing the switchgear and transformer; (3) a 400-foot-long, 14.7-kilovolt transmission line extending to an existing FirstEnergy transmission system; and (4) appurtenant facilities. The proposed project would have an average annual generation of 10,000 megawatthours.

Applicant Contact: Mr. David C. Sinclair, Advanced Hydro Solutions, LLC, 3000 Auburn Drive, Suite 430, Beachwood, OH 44122; phone: (216) 472-5581.

FERC Contact: Timothy Looney; phone: (202) 502-6096.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14698-000.

More information about this project, including a copy of the application, can be viewed or printed on the “eLibrary” link of the Commission's Web site at http://www.ferc.gov/docs-filing/elibrary.asp. Enter the docket number (P-14698) in the docket number field to access the document. For assistance, contact FERC Online Support.

Dated: September 24, 2015.
Nathaniel J. Davis, Sr.,
Deputy Secretary.

[FR Doc. 2015-24742 Filed 9-29-15; 8:45 am]

BILLING CODE 6717-01-P